DEPARTMENT OF HEALTH AND HUMAN SERVICES

National Institutes of Health

All of Us Research Program, Tribal Consultation Meetings and Listening Sessions

AGENCY: National Institutes of Health, HHS.

ACTION: Notice.

SUMMARY: The National Institutes of Health (NIH) All of Us Research Program will host four Tribal Consultations to consult on the best practices for engaging with Tribal Nations to facilitate the inclusion of American Indian and Alaska Native (AI/AN) populations in this program. They will take place at three U.S. Department of Health and Human Services (HHS) Regional Consultations and at the National Congress of American Indians (NCAI) Mid-Year Conference and Marketplace.

DATES:

June 18, 2019: HHS Regional Consultation, Region 9 (Sacramento, CA).

June 24, 2019: NCAI Mid-Year Conference & Marketplace (Sparks, NV).

August 21, 2019: HHS Regional Consultation, Regions 1-4 (Washington, DC).

August 21, 2019: HHS Regional Consultation, Regions 6-8 (Denver, CO).

ADDRESSES: A full schedule of consultations with specific dates and times, as well as full location information, will be made available at https://AllofUs.nih.gov/All-Us-Tribal-Engagement.

FOR FURTHER INFORMATION CONTACT: The All of Us Tribal Engagement team by phone at 240-515-5317, by email at AOUTribal@nih.gov, or by mail at 6011 Executive Boulevard, Suite 214, Rockville, MD 20852.

SUPPLEMENTARY INFORMATION: In accordance with the U.S. Department of Health and Human Services' (HHS) Tribal Consultation Policy, All of Us announces that they will be holding four Tribal consultations during summer 2019: at the HHS Regional Consultation in Sacramento, California on June 18; at the NCAI Mid-Year Conference & Marketplace in Sparks, Nevada on June 24; at the HHS Regional Consultation in Washington, DC on July 16; and at the HHS Regional Consultation in Denver, Colorado on August 21.

The All of Us Research Program aims to accelerate health research and medical breakthroughs to enable an era of precision medicine for all. All of Us is committed to ensuring the program reflects the diversity of the United States. The goal for these events is to facilitate information exchange and provide an opportunity for Tribal and Urban Indian Organization leadership to have meaningful input as All of Us identifies priorities and opportunities around the inclusion of AI/AN populations in the research program while also implementing the appropriate protections to comply with Tribal research oversight and laws. All of Us will also host listening sessions throughout summer 2019. A full schedule of consultations and listening sessions will be made available on the All of Us Tribal Engagment web page at https://AllofUs.nih.gov/All-Us-Tribal-Engagement.

Dated: May 28, 2019.
Lawrence A. Tabak,
Principal Deputy Director, National Institutes of Health.

[FR Doc. 2019-11494 Filed 5-31-19; 8:45 am]

BILLING CODE 4140-01-P